DEPARTMENT OF JUSTICE

[OMB Number 1190-0018]

Agency Information Collection Activities; Proposed eCollection eComments Requested; Extension of a Currently Approved Collection

AGENCY: Civil Rights Division, Department of Justice.

ACTION: 30-day Notice.

SUMMARY: The Department of Justice, Civil Rights Division, Office of Special Counsel for Immigration-Related Unfair Employment Practices, will be submitting the following information collection request to the Office of Management and Budget for review and approval in accordance with the Paperwork Reduction Act of 1995. This proposed information collection was previously published in the Federal Register, Volume 79, Number 159, page 48765, on August 18, 2014, allowing for a 60-day comment period.

DATES: The purpose of this notice is to allow for an additional 30 days for public comment until November 21, 2014.

FOR FURTHER INFORMATION CONTACT:

To ensure that comments on the information collection are received, OMB recommends that written comments be faxed to the Office of Information and Regulatory Affairs, OMB, Attn: DOJ Desk Officer, Fax: 202 395-5806, or emailed to oira_submission@omb.eop.gov. All comments should be identified with the OMB control number [1190-0018]. Also include the DOJ docket number found in brackets in the heading of this document.

Written comments and/or suggestions are requested from the public and affected agencies concerning the proposed collection of information. Your comments should address one or more of the following four points:

(1) Evaluate whether the collection of information is necessary for the proper performance of the function of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology (e.g., permitting electronic submission of responses).

The information collection is listed below:

(1) Type of information collection: Extension of Currently Approved Collection.

(2) The title of the form/collection: Office of Special Counsel for Immigration-Related Unfair Employment Practices Charge Form [OSC Charge Form].

(3) The agency form number and applicable component of the Department sponsoring the collection. Form OSC-1. Office of Special Counsel for Immigration-Related Unfair Employment Practices, Civil Rights Division, U.S. Department of Justice.

(4) Affected public who will be asked to respond, as well as a brief abstract: Primary: The Office of Special Counsel for Immigration-Related Unfair Employment Practices (OSC) enforces the anti-discrimination provision (§ 274B) of the Immigration and Nationality Act (INA), 8 U.S.C. 1324b. Individuals alleging discrimination by public and private entities based on (1) citizenship or immigration status discrimination in hiring, firing, or recruitment or referral for a fee, (2) national origin discrimination in hiring, firing, or recruitment or referral for a fee, (3) unfair documentary practices during the employment eligibility verification (Form I-9 and E-Verify) process, and (4) retaliation or intimidation for asserting rights covered by the statute. The Department's Civil Rights Division, Office of Special Counsel for Immigration-Related Unfair Employment Practices (OSC), investigates and, where reasonable cause is found, litigates charges alleging discrimination. OSC also initiates independent investigations, at times based on information developed during individual charge investigations. Independent investigations normally involve alleged discriminatory policies that potentially affect many employees or applicants. These investigations may result in complaints alleging a pattern or practice of discriminatory activity. If the Department lacks jurisdiction over a particular charge but believes another agency has jurisdiction over the claim, the charge is forwarded to the applicable Federal, state or local agency for any action deemed appropriate.

(5) An estimate of the total number of respondents and the amount of time estimated for an average respondent to respond: 300 respondents per year at 30 minutes per charge form.

(6) An estimate of the total public burden (in hours) associated with the collection: 150 hours annual burden hours associated with this collection.

If additional information is required contact: Jerri Murray, Department Clearance Officer, United States Department of Justice, Policy and Planning Staff, Justice Management Division, Two Constitution Square, 145 N Street NE., Room 3E.405B, Washington, DC 20530.

Dated: October 16, 2014.
Jerri Murray,
Department Clearance Officer, PRA, United States Department of Justice.

[FR Doc. 2014-25027 Filed 10-21-14; 8:45 am]

BILLING CODE 4410-13-P